DEPARTMENT OF HOMELAND SECURITY

Directorate of Information Analysis and Infrastructure Protection (IAIP)

Open Meeting of National Infrastructure Advisory Council (NIAC)

AGENCY: Directorate of Information Analysis and Infrastructure Protection, DHS.

ACTION: Notice of meeting.

SUMMARY: The National Infrastructure Advisory Council (NIAC) will hold a meeting to be briefed on the status of several Working Group activities that the Council undertook at its last meeting. The NIAC advises the President of the United States on the security of information systems for critical infrastructure supporting other sectors of the economy, including banking and finance, transportation, energy, manufacturing, and emergency government services.

DATES: April 13, 2004, 2 p.m.-5 p.m.

ADDRESSES: The National Press Club Ballroom, 13th floor, 529 14th St, NW., Washington, DC 20045.

FOR FURTHER INFORMATION CONTACT: Nancy J. Wong, (202) 482-1929.

SUPPLEMENTARY INFORMATION: Notice of these meetings is given under the Federal Advisory Committee Act, 5 U.S.C. App. 2.

Agenda of Committee meeting on April 13, 2004

I. Opening of Meeting | Nancy J. Wong, U.S. Department of Homeland Security (DHS)/Designated Federal Official, NIAC.
II. Roll Call of Members | NIAC Staff.
III. Opening Remarks | Lt. Gen. Frank Libutti (USMC, ret.), Under Secretary for Information Analysis and Infrastructure Protection, DHS Homeland Security for Infrastructure Protection;
| Gen. John A. Gordon (USAF, ret.), Assistant to the President and Homeland Security Advisor, Homeland Security Council;
| Richard K. Davidson, Chairman, President & CEO, Union Pacific Corporation; Chairman, NIAC; Erle A Nye, Chairman and CEO TXU Corp; newly appointed Chairman, NIAC; Passing of the Gavel; and
| John T. Chambers, President & CEO, Cisco Systems, Inc.; Vice Chairman, NIAC.
IV. Status Reports on Pending Initiatives
A. Hardening the Internet | George H. Conrades, Chairman & CEO, Akamai Technologies; NIAC Member.
B. Prioritization of Cyber Vulnerabilities | Martin G. McGuinn, Chairman & CEO, Mellon Financial Corporation; NIAC Member.
C. Vulnerability Scoring Research Task | Vice Chairman Chambers; and John W. Thompson, Chairman & CEO, Symantec Corporation; NIAC Member.
V. Final Report and Discussion on Regulatory Guidance/Best Practices for Enhancing Security of Critical Infrastructure Industries | Karen L. Katen, President, Pfizer Global Pharmaceuticals and Exec. V.P., Pfizer Inc.; NIAC Member.
VI. Adoption of NIAC Recommendations | NIAC Members.
VII. Final Report and Discussion on Evaluation Enhancement of Information Sharing Analysis | Thomas E. Noonan, Chairman, and President & CEO, Internet Security and Systems, Inc.
VIII. Adoption of NIAC Recommendations | NIAC Members.
IX. Updates | White House Staff.
A. NSTAC | Chairman and Vice Chairman, NSTAC.
B. National Cyber Security Division | Amit Yoran, Director.
X. New Business | Chairman Davidson; NIAC Members.
XI. Adjournment. |

Procedural

These meetings are open to the public. Limited seating will be available. Reservations are not accepted. Please note that the meetings may close early if all business is finished. Written comments may be submitted at any time before or after the meeting. However, to facilitate distribution of public presentation materials to NIAC members, the Council suggests that presenters forward the public presentation materials, 10 days prior to the meeting date, to the following address:

Ms. Nancy J. Wong, Infrastructure Coordination Division, Directorate of Information Analysis and Infrastructure Protection, U.S. Department of Homeland Security, Room 6095, 14th Street & Constitution Avenue, NW., Washington, DC 20230.

At the discretion of the Chair, members of the public may make oral presentations during the meetings. If you would like to make an oral presentation at a meeting, please notify the Designated Federal Official and submit written material. If you would like a copy of your material distributed to each member of the Committee in advance of a meeting, please submit 25 copies to the Designated Federal Official (see ADDRESSES and DATES).

Information on Services for Individuals with Disabilities

For information on facilities or services for individuals with disabilities, or to request special assistance at the meeting, telephone the Designated Federal Official as soon as possible.

Dated: March 22, 2004.
Nancy J. Wong,
Designated Federal Official for NIAC.

[FR Doc. 04-7232 Filed 3-26-04; 3:14 pm]

BILLING CODE 4410-10-P